DEPARTMENT OF TRANSPORTATION

Federal Aviation Administration

14 CFR Part 39

[Docket No. FAA-2024-2661; Project Identifier MCAI-2024-00269-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2015-02-14, which applies to all Airbus SAS Model A318 series airplanes; A319-111, -112, -113, -114, -115, -131, -132, and -133 airplanes; A320-211, -212, -214, -231, -232, and -233 airplanes; and A321-111, -112, -131, -211, -212, -213, -231, and -232 airplanes. AD 2015-02-14 requires repetitive inspections for cracking, damage, correct installation, and correct adjustment of the main landing gear (MLG) door hinge and actuator fittings on the keel beam, corrective actions if necessary, and revision of the existing maintenance or inspection program, as applicable. Since the FAA issued AD 2015-02-14, a new design of the MLG door keel beam hinge and actuator fitting was developed. This proposed AD would continue to require the actions specified in AD 2015-02-14, add an optional terminating action, and revise the applicability, as specified in a European Union Aviation Safety Agency (EASA) AD, which is proposed for incorporation by reference (IBR). The FAA is proposing this AD to address the unsafe condition on these products.

DATES: The FAA must receive comments on this proposed AD by January 31, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2661; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this proposed AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195.

FOR FURTHER INFORMATION CONTACT: Tim Dowling, Aviation Safety Engineer, FAA, 1600 Stewart Avenue, Suite 410, Westbury, NY 11590; telephone 206-231-3667; email: timothy.p.dowling@faa.gov.

SUPPLEMENTARY INFORMATION:

Comments Invited

The FAA invites you to send any written relevant data, views, or arguments about this proposal. Send your comments to an address listed under the ADDRESSES section. Include “Docket No. FAA-2024-2661; Project Identifier MCAI-2024-00269-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Tim Dowling, Aviation Safety Engineer, FAA, 1600 Stewart Avenue, Suite 410, Westbury, NY 11590; telephone 206-231-3667; email: timothy.p.dowling@faa.gov. Any commentary that the FAA receives which is not specifically designated as CBI will be placed in the public docket for this rulemaking.

Background

The FAA issued AD 2015-02-14, Amendment 39-18081 (80 FR 11096, March 2, 2015) (AD 2015-02-14), for all Airbus SAS Model A318 series airplanes; A319-111, -112, -113, -114, -115, -131, -132, and -133 airplanes; A320-211, -212, -214, -231, -232, and -233 airplanes; and A321-111, -112, -131, -211, -212, -213, -231, and -232 series airplanes. AD 2015-02-14 was prompted by MCAI originated by the European Union Aviation Safety Agency (EASA), which is the Technical Agent for the Member States of the European Union. EASA issued AD 2012-0118, dated July 4, 2012 (EASA AD 2012-0118) (which corresponds to FAA AD 2015-02-14), to correct an unsafe condition.

AD 2015-02-14 requires repetitive inspections for cracking, damage, correct installation, and correct adjustment of the main landing gear (MLG) door hinge and actuator fittings on the keel beam; corrective actions if necessary; and revision of the existing maintenance or inspection program, as applicable. The FAA issued AD 2015-02-14 to detect and correct cracking on the MLG door hinge fitting and actuator fitting on the keel beam, which could lead to in-flight detachment of an MLG door, possibly resulting in injury to persons on the ground and/or damage to the airplane.

Actions Since AD 2015-02-14 Was Issued

Since the FAA issued AD 2015-02-14, EASA superseded AD 2012-0118, dated July 4, 2012, and issued EASA AD 2024-0097R2, dated July 12, 2024 (EASA AD 2024-0097R2) (referred to after this as the MCAI) to correct an unsafe condition on certain Airbus SAS Model A318-111, -112, -121, -122 airplanes; Model A319-111, -112, -113, -114, -115, -131, -132, -133, -151N, -153N, and -171N airplanes; Model A320-211, -212, -214, -215, -216, -231, -232, -233, -251N, -252N, -253N, -271N, -272N, and -273N airplanes; and Model A321-111, -112, -131, -211, -212, -213, -231, -232, -251N, -251NX, -252N, -252NX, -253N, -253NX, -271N, -271NX, -272N, and -272NX airplanes. Model A320-215 airplanes are not certificated by the FAA and are not included on the U.S. type certificate data sheet; this proposed AD therefore does not include those airplanes in the applicability.

The MCAI states that Airbus SAS Model A318-111, A318-112, A318-121, A318-122; Model A319-111, A319-112, A319-113, A319-114, A319-115, A319-131, A319-132, A319-133; Model A320-211, A320-212, A320-214, A320-215, A320-216, A320-231, A320-232, A320-233; Model A321-111, A321-112, A321-131, A321-211, A321-212, A321-213, A321-231, and A321-232 airplanes are commercially known as current engine option (CEO) airplanes.

The MCAI states that Airbus SAS Model A319-151N, A319-153N, A319-171N; Model A320-251N, A320-252N, A320-253N, A320-271N, A320-272N, A320-273N; Model A321-251N, A321-251NX, A321-252N, A321-252NX, A321-253N, A321-253NX, A321-271N, A321-271NX, A321-272N, and A321-272NX airplanes are commercially known as new engine option (NEO) airplanes.

The MCAI states that after EASA AD 2012-0118 was issued, a new design of the MLG door keel beam hinge and actuator fitting was certified for in-service embodiment through Airbus mod 165315 for CEO airplanes. The MCAI states that the applicability is expanded to include the NEO airplanes, which are subject to the same unsafe condition.

The FAA is proposing this AD to detect and correct cracking on the MLG door hinge fitting and actuator fitting on the keel beam, which could lead to in-flight detachment of an MLG door, possibly resulting in injury to persons on the ground and/or damage to the airplane.

You may examine the MCAI in the AD docket at regulations.gov under Docket No. FAA-2024-2661.

Explanation of Retained Requirements

Although this proposed AD does not explicitly restate the requirements of AD 2015-02-14, this proposed AD would retain all the requirements of AD 2015-02-14. Those requirements are referenced in EASA AD 2024-0097R2, which, in turn, is referenced in paragraph (g) of this proposed AD. Paragraph (i) of this proposed AD does restate the requirement of paragraph (k) of AD 2015-02-14, as EASA AD 2024-0097R2 only cancels Task 533154-02-1 of the Airbus A318/A319/A320/A321 ALS Part 2-Damage Tolerant Airworthiness Limitations Items (DT ALI), Revision 01, dated April 4, 2012; Airbus A318/A319/A320/A321 Airworthiness Limitation Items, Document AI/SE-M4/95A.0252/96, Issue 10, dated October 2009; or Airbus A318/A319/A320/A321 Airworthiness Limitation Items, Document AI/SE-M4/95A.0252/96, Issue 11, dated September 2010. However, it does not require removal from the maintenance or inspection program for certain airplanes. This proposed AD would require removal of this task.

Material Incorporated by Reference Under 1 CFR Part 51

EASA AD 2024-0097R2 specifies procedures for repetitive detailed visual, high frequency eddy current (HFEC), and ultrasonic inspections of the MLG door actuator fittings on the keel beam. Corrective actions include replacement of the affected MLG door actuator fitting, and repair of the bush migration, the wear marks underneath bolt head, and other damages on left and right sides of the airplane.

EASA AD 2024-0097R2 specifies procedures for repetitive detailed visual and HFEC inspections of the MLG door hinge fittings on the keel beam. Corrective actions include replacement of the MLG door hinge fitting, and repair of the bush migration, wear marks underneath bolt head, and other damages left and right sides of the airplane.

EASA AD 2024-0097R2 also specifies procedures for modifying the actuator and hinge fittings at the MLG door for the following parts: MLG actuator fittings, hinge fittings, and connecting plates between Frame (FR) 42 and FR 43; accomplishment of this modification terminates the repetitive inspections.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD would retain all requirements of AD 2015-02-14, add an optional terminating action, and revise the applicability by adding NEO airplanes and removing airplanes with a certain modification. This proposed AD would also require accomplishing the actions specified in the material described previously.

Costs of Compliance

The FAA estimates that this AD, if adopted as proposed, would affect 1,766 airplanes of U.S. registry.

The FAA estimates the following costs to comply with this proposed AD:

Estimated Costs for Required Actions
Action | Labor cost | Parts cost | Cost per product | Cost on U.S. operators
Inspections | 20 work-hours × $85 per hour = $1,700, per inspection cycle | $0 | $1,700, per inspection cycle | $3,002,200, per inspection cycle.

Estimated Costs for Optional Actions
Action | Labor cost | Parts cost | Cost per product
Modify the actuator and hinge fittings at MLG door | 82 work-hours × $85 per hour = $6,970 | $52,000 | $58,970

The FAA estimates the following costs to do any fitting replacement that would be required based on the results of any required actions. The FAA has no way of determining the number of aircraft that might need a fitting replacement:

Estimated Costs of On-Condition Actions
Labor cost | Parts cost | Cost per product
38 work-hours × $85 per hour = $3,230 | $6,742 | $9,972

The FAA has received no definitive data on which to base the cost estimates for the repairs specified in this proposed AD.

According to the manufacturer, some or all of the costs of this proposed AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2015-02-14, Amendment 39-18081 (80 FR 11096, March 2, 2015); and

b. Adding the following new AD:

Airbus SAS: Docket No. FAA-2024-2661; Project Identifier MCAI-2024-00269-T.

(a) Comments Due Date

The FAA must receive comments on this airworthiness directive (AD) by January 31, 2025.

(b) Affected ADs

This AD replaces AD 2015-02-14, Amendment 39-18081 (80 FR 11096, March 2, 2015) (AD 2015-02-14).

(c) Applicability

This AD applies to the Airbus SAS airplanes identified in paragraphs (c)(1) through (4) of this AD, certificated in any category, as identified in European Union Aviation Safety Agency (EASA) AD 2024-0097R2, dated July 12, 2024 (EASA AD 2024-0097R2).

(1) Model A318-111, -112, -121, and -122 airplanes.

(2) Model A319-111, -112, -113, -114, -115, -131, -132, and -133 airplanes.

(3) Model A319-151N, -153N, and -171N airplanes.

(4) Model A320-211, -212, -214, -216, -231, -232, and -233 airplanes.

(5) Model A320-251N, -252N, -253N, -271N, -272N, and -273N airplanes.

(6) Model A321-111, -112, -131, -211, -212, -213, -231, and -232 airplanes.

(7) Model A321-251N, -251NX, -252N, -252NX, -253N, -253NX, -271N, -271NX, -272N, and -272NX airplanes.

(d) Subject

Air Transport Association (ATA) of America Code 53, Fuselage.

(e) Unsafe Condition

This AD was prompted by reports of cracks on the main landing gear (MLG) door hinge fitting and actuator fitting on the keel beam. The FAA is issuing this AD to detect and correct cracking on the MLG door hinge fitting and actuator fitting on the keel beam. The unsafe condition, if not addressed, could lead to in-flight detachment of an MLG door, possibly resulting in injury to persons on the ground and/or damage to the airplane.

(f) Compliance

Comply with this AD within the compliance times specified, unless already done.

(g) Requirements

Except as specified in paragraphs (h) and (j) of this AD: Comply with all required actions and compliance times specified in, and in accordance with, EASA AD 2024-0097R2.

(h) Exceptions to EASA AD 2024-0097R2

(1) Where EASA AD 2024-0097R2 refers to “16 May 2024 [the effective date of the original issue of this AD],” this AD requires using the effective date of this AD.

(2) Where EASA AD 2024-0097R2 refers to “18 July 2012 [the effective date of EASA AD 2012-0118],” this AD requires using April 6, 2015 (the effective date of AD 2015-02-14).

(3) Where EASA AD 2024-0097R2 specifies to “contact Airbus for approved repair instructions and, within the compliance time specified therein, accomplish those instructions accordingly,” replace that text with “all repairs must be done before further flight using a method approved by the Manager, International Validation Branch, FAA; or the European Union Aviation Safety Agency (EASA); or SAS's EASA Design Organization Approval (DOA). If approved by the DOA, the approval must include the DOA-authorized signature.”

(4) Where paragraph (6) of EASA AD 2024-0097R2 describes an airplane that has been inspected per “ALI task 533154-03-2, 533154-04-2 or 533154-10-1, or in accordance with the instructions of inspection SB 1 (at any Revision) or inspection SB 2 (at any Revision),” replace that text with “ALI task 533154-03-2, 533154-04-2 or 533154-10-1, or in accordance with the instructions of Airbus SB A320-53-1195 or SB A320-53-1325 at any Revision, as applicable, or Airbus SB A320-53-1196 or SB A320-53-1326 at any Revision, as applicable.”

(5) This AD does not adopt the “Remarks” section of EASA AD 2024-0097R2.

(i) Retained Maintenance or Inspection Program Revision, With Added Airplanes and Compliance Time

This paragraph restates the requirements of paragraph (k) of AD 2015-02-14 with added airplanes and compliance time. At the applicable time specified in paragraph (i)(1) or (2) of this AD: Revise the maintenance or inspection program, as applicable, to remove Task 533154-02-1 of the Airbus A318/A319/A320/A321 ALS Part 2-Damage Tolerant Airworthiness Limitations Items (DT ALI), Revision 01, dated April 4, 2012; Airbus A318/A319/A320/A321 Airworthiness Limitation Items, Document AI/SE-M4/95A.0252/96, Issue 10, dated October 2009; or Airbus A318/A319/A320/A321 Airworthiness Limitation Items, Document AI/SE-M4/95A.0252/96, Issue 11, dated September 2010. The actions required by this AD take precedence over Task 533154-02-1 of the Airbus A318/A319/A320/A321 ALS Part 2-Damage Tolerant Airworthiness Limitation Items (DT ALI), Revision 01, dated April 4, 2012; Airbus A318/A319/A320/A321 Airworthiness Limitation Items, Document AI/SE-M4/95A.0252/96, Issue 10, dated October 2009; and Airbus A318/A319/A320/A321 Airworthiness Limitation Items, Document AI/SE-M4/95A.0252/96, Issue 11, dated September 2010.

(1) For airplanes identified in paragraphs (c)(1), (2), (4), and (6) of this AD: After the effective date of AD 2015-02-14 and before further flight after doing the initial inspections required by paragraph (g) of this AD.

(2) For airplanes identified in paragraphs (c)(3), (5), and (7) of this AD: After the effective date of this AD and before further flight after doing the initial inspections required by paragraph (g) of this AD.

(j) No Reporting Requirement

Although the material referenced in EASA AD 2024-0097R2 specifies to submit certain information to the manufacturer, this AD does not include that requirement.

(k) Additional AD Provisions

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (l) of this AD and email to: AMOC@faa.gov.

(i) Before using any approved AMOC, notify your appropriate principal inspector, or lacking a principal inspector, the manager of the responsible Flight Standards Office.

(ii) AMOCs approved previously for AD 2015-02-14 are approved as AMOCs for the corresponding provisions of EASA AD 2012-0118 that are required by paragraph (g) of this AD.

(2) Contacting the Manufacturer: For any requirement in this AD to obtain instructions from a manufacturer, the instructions must be accomplished using a method approved by the Manager, International Validation Branch, FAA; or the European Union Aviation Safety Agency (EASA); or Airbus SAS's EASA Design Organization Approval (DOA). If approved by the DOA, the approval must include the DOA-authorized signature.

(3) Required for Compliance (RC): Except as required by paragraph (k)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Additional Information

For more information about this AD, contact Tim Dowling, Aviation Safety Engineer, FAA, 1600 Stewart Avenue, Suite 410, Westbury, NY 11590; telephone 206-231-3667; email: timothy.p.dowling@faa.gov.

(m) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on [DATE 35 DAYS AFTER PUBLICATION OF THE FINAL RULE].

(i) European Union Aviation Safety Agency (EASA) AD 2024-0097R2, dated July 12, 2024.

(ii) [Reserved]

(4) For EASA AD 2024-0097R2 identified in this AD, contact EASA, Konrad-Adenauer-Ufer 3, 50668 Cologne, Germany; telephone +49 221 8999 000; email ADs@easa.europa.eu; website easa.europa.eu. You may find this material on the EASA website at ad.easa.europa.eu.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on December 11, 2024.
Suzanne Masterson,
Deputy Director, Integrated Certificate Management Division, Aircraft Certification Service.

[FR Doc. 2024-29620 Filed 12-16-24; 8:45 am]

BILLING CODE 4910-13-P